GENERAL SERVICES ADMINISTRATION

Federal Travel Regulation; Notice of GSA Bulletin FTR 05-08

AGENCY: Office of Governmentwide Policy, General Services Administration (GSA).

ACTION: Notice of a bulletin.

SUMMARY: This notice announces GSA Federal Travel Regulation (FTR) Bulletin 05-08. This Bulletin informs agencies that in accordance with the OMB Circular A-123 (revised), Appendix B, issued August 5, 2005, new travel charge card policies and guidance are issued to Executive Branch departments and agencies in order to help reduce the risk of fraud, misuse, and late payments. OMB Circular A-123 (revised), Appendix B is effective October 1, 2005. Bulletin FTR 05-08 may be found at www.gsa.gov/ftrbulletins. An amendment to the FTR on the use of the government issued travel charged card is forthcoming.

DATES: The bulletin announced in this notice is effective December 2, 2005.

FOR FURTHER INFORMATION CONTACT: For clarification of content, contact General Services Administration, Office of Governmentwide Policy, Office of Travel, Transportation and Asset Management, at (202) 501-1777. Please cite Bulletin FTR 05-08.

SUPPLEMENTARY INFORMATION:

A. Background

OMB Circular A-123 (revised), Appendix B, establishes guidance for Executive branch agencies for improving the management of government charge card programs. The requirements in OMB Circular A-123 (revised), Appendix B pertain to the use of charge card programs by agencies and their employees and must be included in internal agency regulations, procedures, and training materials. Bulletin FTR 05-08 serves as guidance to agencies on implementing those policies and guidelines that are related to the official travel charge card.

B. Procedures

Bulletins regarding Federal travel expenses are located on the Internet at www.gsa.gov/ftrbulletins as Federal Travel Regulation (FTR) bulletins.

Dated: December 2, 2005.
Becky Rhodes,
Deputy Associate Administrator.

[FR Doc. E5-7259 Filed 12-12-05; 8:45 am]

BILLING CODE 6820-14-S